DEPARTMENT OF THE INTERIOR

Bureau of Land Management

[223 LLUTG02000 L12200000.PM00000]

Notice of Public Meetings, San Rafael Swell Recreation Area Advisory Council, Utah

AGENCY: Bureau of Land Management, Interior.

ACTION: Notice of public meetings.

SUMMARY: In accordance with the Federal Land Policy and Management Act, the Federal Advisory Committee Act, and the Federal Lands Recreation Enhancement Act, the U.S. Department of the Interior, Bureau of Land Management's (BLM) San Rafael Swell Recreation Area Advisory Council (Council) will meet as indicated below.

DATES: The Council will meet at the Emery County Courthouse on May 24, 2022, to depart for a field tour of the San Rafael Swell Recreation Area from 8:30 a.m. to 5:00 p.m. The Council will hold an in-person public meeting with a virtual participation option on May 25, 2022, from 8:30 a.m. to 12:30 p.m., with public comments accepted at 11:00 a.m.

The Council will hold an in-person public meeting with a virtual participation option on August 29, 2022, from 8:30 a.m. to 12:45 p.m., with public comments accepted at 11:00 a.m.

The meetings and field tour are open to the public.

ADDRESSES:

• On May 24, participants will meet at the Emery County Courthouse, 75 East Main Street, Castle Dale, UT 84513 for a field tour to the San Rafael Swell Recreation Area. The May 25 meeting will also be held at the Emery County Courthouse. Individuals that prefer to participate virtually must register in advance at https://tinyurl.com/bdcs6npn.

• The August 29 meeting will be held at the Emery County Courthouse. Individuals that prefer to participate virtually must register in advance at https://tinyurl.com/yckrjtfa.

Written comments may be sent prior to each meeting either by mail to the BLM Green River District, Attn: Lance Porter, 170 South 500 West, Vernal, UT 84078, or by email: utprmail@blm.gov, with the subject line “San Rafael Swell Recreation Area Advisory Council Meeting.”

FOR FURTHER INFORMATION CONTACT: BLM Green River District Manager Lance Porter, telephone: (435) 781-4400 or email: utprmail@blm.gov. Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The John D. Dingell, Jr. Conservation, Management, and Recreation Act (Pub. L. 116-9) established the San Rafael Swell Recreation Area Advisory Council to advise the Secretary of the Interior, through the BLM, in planning and managing the San Rafael Swell Recreation Area. The seven-member Council represents a wide range of interests including local government, recreational users, grazing allotment permittees, conservation organizations, people with expertise in historical uses of the recreation area, and Tribes.

The Council will host a field tour on May 24 to the San Rafael Swell Recreation Area, which features badlands of brightly colored and wildly eroded sandstone formations, deep canyons, and giant plates of stone tilted upright through massive geologic upheaval. The recreation area offers numerous recreational opportunities including hiking, biking, four-wheel driving, horseback, canyoneering, and river running. Members of the public are welcome on the field tour but must provide their own transportation and meals. Individuals who plan to attend must RSVP at least one week in advance of the field tour to the contact listed in the FOR FURTHER INFORMATION CONTACT section of this notice. Individuals who need special assistance, such as sign language interpretation and other reasonable accommodations, also should contact the person listed in the FOR FURTHER INFORMATION CONTACT section of this notice. The field tour will follow current Centers for Disease Control and Prevention COVID-19 guidance regarding social distancing and wearing of masks. Agenda items for the May 25 meeting include wild horse and burro management and special recreation permits. Agenda items for the August 29 meeting include a review of Areas of Critical Environmental Concern, land use plan amendments updates, and spring/summer visitor information updates.

Detailed meeting minutes will be maintained in the BLM Green River District Office and will be made available for public inspection and reproduction during regular business hours within 90 days following each meeting. Minutes will also be posted to the Council's web page https://go.usa.gov/xzk5Q. The amount of time for individual oral comments may be limited, depending on the total number of commenters. Written comments may also be sent to the BLM Green River District Manager at the address listed in the ADDRESSES section of this notice. All comments received will be provided to the Council.

Public Disclosure of Comments: Before including your address, phone number, email address, or other personal identifying information in your comment, you should be aware that your entire comment, including your personal identifying information, may be made publicly available at any time. While you can ask in your comment to withhold your personal identifying information from public review, we cannot guarantee that we will be able to do so.

Authority: 43 CFR 1784.4-2.

Anita Bilbao,
Associate State Director.

[FR Doc. 2022-09522 Filed 5-3-22; 8:45 am]

BILLING CODE 4310-DQ-P